DEPARTMENT OF STATE

[Public Notice 3689]

Notice of Information Collection under Emergency Review: Proposal Submission Instructions; OMB Control #1405-0115; Department of State Form Numbers DS-017, DS-2012, DS-2013, DS-2011, DS-2018, DS-2014, DS-2015, DS-2016

ACTION: Notice.

SUMMARY: The Department of State has submitted the following information collection request to the Office of Management and Budget (OMB) for review and approval in accordance with the emergency review procedures of the Paperwork Reduction Act of 1995.

Type of Request: Emergency Review.

Originating Office: ECA-IIP/EX.

Title of Information Collection: Proposal Submission Instructions (PSI).

Frequency: 40 times a year (average), coincidental with Request for Grant Proposal competitions published in the Federal Register.

Form Number: DS-017, DS-2012, DS-2013, DS-2011, DS-2018, DS-2014, DS-2015, DS-2016.

Respondents: Public and private non-profit organizations meeting the provisions described in IRS regulation 26 CFR 1.501(c).

Estimated Number of Respondents: Approximately 800 proposals will be submitted to the Bureau yearly, accompanied by the Proposal Submission Instructions (PSI).

Average Hours Per Response: 20 hours per response.

Total Estimated Burden: 16,000 hours.

The proposed information collection is published to obtain comments from the public and affected agencies. Emergency review and approval of this collection has been requested from OMB by May 31, 2001. If granted, the emergency approval is only valid for 180 days. Comments should be directed to the State Department Desk Officer, Office of Information and Regulatory Affairs, Office of Management and Budget (OMB), Washington, DC 20530, who may be reached on 202-395-3897.

During the first 60 days of this same period a regular review of this information collection is also being undertaken. Comments are encouraged and will be accepted until 60 days from the date that this notice is published in the Federal Register. The agency requests written comments and suggestions from the public and affected agencies concerning the proposed collection of information. Your comments are being solicited to permit the agency to:

• Evaluate whether the proposed collection of information is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR ADDITIONAL INFORMATION: Public comments, or requests for additional information, regarding the collection listed in this notice should be directed to ECA-IIP/EX/PM, 301 4th Street, SW, Washington, DC 20547, who may be reached on (202) 619-4949.

Dated: May 15, 2001.
David Whitten,
Executive Director, Bureau of Educational and Cultural Affairs, Department of State.

[FR Doc. 01-14256 Filed 6-5-01; 8:45 am]

BILLING CODE 4710-05-P